NATIONAL AERONAUTICS AND SPACE ADMINISTRATION

14 CFR Part 1221

[Document No: NASA-20-088; Docket No: NASA-2020-0005]

RIN 2700-AE57

NASA Seal, NASA Insignia, NASA Logotype, NASA Program Identifiers, NASA Flags, and the Agency's Unified Visual Communications System

AGENCY: National Aeronautics and Space Administration.

ACTION: Direct final rule.

SUMMARY: This direct final rule makes nonsubstantive changes to add the NASA Graphics Standards Manual and make other administrative updates.

DATES: This direct final rule is effective on January 11, 2021. Comments due on or before December 14, 2020.

ADDRESSES: Comments must be identified with RINs 2700-AE57 and may be sent to NASA via the Federal E-Rulemaking Portal: http://www.regulations.gov. Follow the online instructions for submitting comments. Please note that NASA will post all comments on the internet with changes, including any personal information provided.

FOR FURTHER INFORMATION CONTACT: Bert Ulrich, 202-358-1713, bert.ulrich@nasa.gov.

SUPPLEMENTARY INFORMATION:

Direct Final Rule and Significant Adverse Comments

NASA has determined this rulemaking meets the criteria for a direct final rule because it makes nonsubstantive changes to add the NASA Graphics Standards Manual and makes other administrative updates. No opposition to the changes and no significant adverse comments are expected. However, if NASA receives significant adverse comments, it will withdraw this direct final rule by publishing a notice in the Federal Register. A significant adverse comment is one that explains: (1) Why the direct final rule is inappropriate, including challenges to the rule's underlying premise or approach; or (2) why the direct final rule will be ineffective or unacceptable without a change. In determining whether a comment necessitates withdrawal of this direct final rule, NASA will consider whether it warrants a substantive response in a notice and comment process.

Background

Subpart 1 of part 1221, last amended November 5, 1993 [58 FR 58944], sets forth the policy governing the use of the NASA Seal, the NASA Insignia, NASA Logotype, NASA Program Identifiers, and the NASA Flags. This subpart also establishes and sets forth the concept and scope of the NASA Unified Visual Communications System and prescribes the policy and guidelines for implementation of the system. It is amended to add the NASA Graphics Standards Manual and make other administrative updates.

Statutory Authority

The National Aeronautics and Space Act (the Space Act), 51 U.S.C. 20113 (a), authorizes the Administrator of NASA to make, promulgate, issue, rescind, and amend rules and regulations governing the manner of its operations and the exercise of the powers vested in it by law.

Regulatory Analysis

Executive Order 12866, Regulatory Planning and Review and Executive Order 13563, Improvement Regulation and Regulation Review

Executive Orders 13563 and 12866 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This rule has been designated as “not significant” under section 3(f) of E.O. 12866.

Review Under the Regulatory Flexibility Act

The Regulatory Flexibility Act (5 U.S.C. 601 et seq.) requires an agency to prepare an initial regulatory flexibility analysis to be published at the time the proposed rule is published. This requirement does not apply if the agency “certifies that the rule will not, if promulgated, have a significant economic impact on a substantial number of small entities” (5 U.S.C. 603). This rule adds the NASA Graphics Standards Manual and make other administrative updates Subpart 1 of part 1221 and, therefore, does not have a significant economic impact on a substantial number of small entities.

Review Under the Paperwork Reduction Act

This direct final rule does not contain any information collection requirements subject to the Paperwork Reduction Act of 1995 (44 U.S.C. 3501 et seq.).

Review Under E.O. 13132

E.O. 13132, “Federalism,” 64 FR 43255 (August 4, 1999) requires regulations be reviewed for Federalism effects on the institutional interest of states and local governments, and if the effects are sufficiently substantial, preparation of the Federal assessment is required to assist senior policy makers. The amendments will not have any substantial direct effects on state and local governments within the meaning of the E.O. Therefore, no Federalism assessment is required.

Executive Order 13771—Reducing Regulations and Controlling Regulatory Costs

This rule is not an E.O. 13771 regulatory action because this rule is not significant under E.O. 12866.

Unfunded Mandates Reform Act of 1995

This rule will not result in the expenditure by State, local, and Tribal governments, in the aggregate, or by the private sector, of $100,000,000 or more in any one year, and it will not significantly or uniquely affect small governments.

List of Subjects in 14 CFR Part 1221

Decorations, Medals, Awards, Flags, Seals, Insignia, Unified visual communication system.

For reasons set forth in the preamble, NASA is amending 14 CFR part 1221, subpart 1221.1 to read as follows:

PART 1221—THE NASA SEAL AND OTHER DEVICES, AND THE CONGRESSIONAL SPACE MEDAL OF HONOR

Subpart 1221.1—NASA Seal, NASA Insignia, NASA Logotype, NASA Program Identifiers, NASA Flags, and the Agency's Unified Visual Communications System

1 The authority for subpart 1221.1 continues to read as follows:

Authority: 42 U.S.C. 2472(a) and 2473(c)(1).

2. Revise § 1221.100 to read as follows:

§ 1221.100 Scope.

This subpart sets forth the policy governing the use of the NASA Seal, the NASA Insignia, NASA Logotype, NASA Program Identifiers, and the NASA Flags. This subpart also establishes and sets forth the concept and scope of the NASA Graphics Standards Manual and prescribes the policy and guidelines for implementation of the system. The NASA Graphics Standards Manual is accessible at https://communications.nasa.gov/sites/default/files/files/NASA_Graphics_Standards_v3-TAGGED-v3.pdf.

3. Revise § 1221.103 to read as follows:

§ 1221.103 Establishment of the NASA Insignia.

The NASA Insignia was designed by the Army Institute of Heraldry and approved by the Commission of Fine Arts and the NASA Administrator. It symbolizes NASA's role in aeronautics and space and is established by the NASA Administrator as the signature and design element for visual communications formerly reserved for the NASA Logotype. The NASA Insignia shall be used as set forth in §§ 1221.108, the NASA Graphics Standards Manual, and any accompanying style guides or related NASA directive or specification approved by the NASA Administrator and published subsequent hereto.

4. Revised § 1221.104 to read as follows:

§ 1221.104 Establishment of the NASA Logotype.

The NASA Logotype (also called “the Worm”) was approved by the Commission of Fine Arts and the NASA Administrator. It symbolizes NASA's role in aeronautics and space from 1975 to 1992 and was retired between 1992-2020. The NASA Logotype shall be used as set forth in § 1221.111.

5. Revise § 1221.107 to read as follows:

§ 1221.107 Establishment of the NASA Administrator's, Deputy Administrator's, and Associate Administrator's Flags.

(a) Concurrently with the establishment of the NASA Flag in January 1960, the NASA Administrator also established NASA Flags to represent the NASA Administrator, Deputy Administrator, and Associate Administrator. Each of these flags conforms to the basic design of the NASA Flag except for the following:

(1) The size of the flag is 3 feet x 4 feet;

(2) The Administrator's Flag has four stars;

(3) The Deputy Administrator's Flag has three stars; and

(4) The Associate Administrator's Flag has two stars.

(b) Flags representing these senior officials shall be used as set forth in § 1221.113.

6. Revise § 1221.108 to read as follows:

§ 1221.108 Establishment of the NASA Unified Visual Communications System.

(a) The NASA Administrator directed the establishment of a NASA Unified Visual Communications System. The system, which is comprised of the NASA Graphics Standards Manual and any accompanying style guides or related NASA directive or specification, was developed under the Federal Design Improvement Program initiated by the President in May 1972. This system is the Agency-wide program by which NASA projects a contemporary, business-like, progressive, and forward-looking image through the use of effective design for improved communications. The system provides a professional and cohesive NASA identity by imparting continuity of graphics design in all layout, reproduction art, stationery, forms, publications, signs, films, video productions, vehicles, aircraft, and spacecraft markings and other items. It creates a unified image which is representative and symbolic of NASA's progressive attitudes and programs.

(b) The Associate Administrator for Communications is responsible for the development and implementation of the NASA Graphics Standards Manual and any accompanying style guides for the Agency or related NASA directive or specification.

(c) The Associate Administrator for Communications has designated staff to implement and monitor Agency-wide design improvements in consonance with the NASA Graphics Standards Manual. Designated staff will develop and issue changes and additions to the Manual as required and as new design standards and specifications are developed and approved. The NASA Graphics Standards Manual can be downloaded at https://communications.nasa.gov/sites/default/files/files/NASA_Graphics_Standards_v3-TAGGED-v3.pdf.

(d) NASA Centers and Headquarters have designated staff to implement NASA's graphics standards and ensure compliance of the NASA Graphics Standards Manual and any accompanying Style Guides or related NASA directive or specification.

7. Revise § 1221.109 to read as follows:

§ 1221.109 Use of the NASA Seal.

(a) The Associate Administrator for Communications shall be responsible for custody of the NASA Impression Seal and custody of NASA replica (plaques) seals. The NASA Seal is restricted to the following:

(1) NASA award certificates and medals.

(2) NASA awards for career service.

(3) Security credentials and employee identification cards.

(4) NASA Administrator's documents; the Seal may be used on documents such as interagency or intergovernmental agreements and special reports to the President and Congress, and on other documents, at the discretion of the NASA Administrator.

(5) Plaques; the design of the NASA Seal may be incorporated in plaques for display in Agency auditoriums, presentation rooms, lobbies, offices of senior officials, and on the fronts of buildings occupied by NASA. A separate NASA seal in the form of a 15-inch, round, bronze-colored plaque on a walnut-colored wood base is also available, but prohibited for use in the above representational manner. It is restricted to use only as a presentation item by the Administrator and the Deputy Administrator.

(6) The NASA Flag and the NASA Administrator's, Deputy Administrator's, and Associate Administrator's Flags, which incorporate the design of the Seal.

(7) NASA prestige publications which represent the achievements or missions of NASA as a whole.

(8) Publications (or documents) involving participation by another Government agency for which the other Government agency has authorized the use of its seal.

(b) Use of the NASA Seal for any purpose other than as prescribed in this section is prohibited, except that the Associate Administrator for Communications may authorize, on a case-by-case basis, the use of the NASA Seal for purposes other than those prescribed when the Associate Administrator for Communications deems such use to be appropriate.

8. In § 1221.110, revise paragraph (c)(4) to read as follows:

§ 1221.110 Use of the NASA Insignia.

* * * * *

(c) * * *

(4) Items bearing the NASA Insignia and NASA Logotype such as souvenirs, novelties, toys, models, clothing, and similar items (including items for sale through the NASA employees' nonappropriated fund activities) may be manufactured and sold only after the a request has been submitted to, and approved by, the NASA Office for Communications, NASA Headquarters, Washington, DC 20546.

9. Revise § 1221.111 to read as follows:

§ 1221.111 Use of the NASA Logotype.

The NASA Logotype which was retired from 1992-2020 can be used only in an authentic historical context, on merchandise in accordance with § 1221.110, paragraph (c), in the NASA graphics standards/style guide or with prior written approval of the NASA Administrator.

10. Revise § 1221.112(a) to read as follows:

§ 1221.112 Use of the NASA Program Identifiers.

(a) Official NASA Program Identifiers will be restricted to the uses set forth in this section and to such other uses as the Associate Administrator for Communications may specifically approve.

* * * * *

11. Revise § 1221.113(b), to read as follows:

§ 1221.113 Use of the NASA Flags.

* * * * *

(b) The NASA Administrator's, Deputy Administrator's and Associate Administrator's Flags shall be displayed with the United States Flag in the respective offices of these officials but may be temporarily removed for use at the discretion of the officials concerned.

12. Revise § 1221.114(a) to read as follows:

§ 1221.114 Approval of new or change proposals.

(a) Except for NASA Astronaut Mission Crew Badges/Patches, any proposal to change or modify the emblematic devices set forth in this subpart or to introduce a new emblematic device other than as prescribed in this subpart requires the written approval of the NASA Administrator with prior approval and recommendation of the NASA Associate Administrator for Communications.

* * * * *

Nanette Smith,
Team Lead, NASA Directives and Regulations.

[FR Doc. 2020-23481 Filed 11-10-20; 8:45 am]

BILLING CODE 7510-13-P